DEPARTMENT OF TRANSPORTATION

Federal Aviation Administration

Notice of Intent To Rule on Application To Impose a Passenger Facility Charge (PFC) at Dayton International Airport for Use at Dayton International Airport and Dayton-Wright Brothers Airport, Dayton, Ohio

AGENCY: Federal Aviation Administration (FAA), DOT.

ACTION: Notice of intent to rule on application.

SUMMARY: The FAA proposes to rule and invites public comment on the application to impose a PFC at Dayton International Airport for use at Dayton International Airport and Dayton-Wright Brothers Airport under the provisions of the Aviation Safety and Capacity Expansion Act of 1990 (Title IX of the Omnibus Budget Reconciliation Act of 1990) (Pub. L. 101-508) and part 158 of the Federal Aviation Regulations (14 CFR part 158).

DATES: Comments must be received on or before January 4, 2002.

ADDRESSES: Comments on this application may be mailed or delivered in triplicate to the FAA at the following address: Federal Aviation Administration, Detroit Airports District Office, Willow Run Airport, East, 8820 Beck Road, Belleville, Michigan 48111. The application may be reviewed in person at this location.

In addition, one copy of any comments submitted to the FAA must be mailed or delivered to Mr. Eugene B. Conrad, Jr., A.A.E., Dayton International Airport at the following address: Dayton International Airport, 3600 Terminal Drive, Suite 300, Vandalia, Ohio, 45377.

Air carriers and foreign air carriers may submit copies of written comments previously provided to the Dayton International Airport under section 158.23 of part 158.

FOR FURTHER INFORMATION CONTACT: Ms. Arlene B. Draper, Program Manager, Federal Aviation Administration, Detroit Airports District Office, Willow Run Airport, East, 8820 Beck Road, Belleville, Michigan 48111 (734-487-7282). The application may be reviewed in person at this same location.

SUPPLEMENTARY INFORMATION: The FAA proposes to rule and invites public comment on the application to impose a PFC at Dayton International Airport and to use the revenue at Dayton International Airport and Dayton-Wright Brothers Airport under the provisions of the Aviation Safety and Capacity Expansion Act of 1990 (Title IX of the Omnibus Budget Reconciliation Act of 1990) (Pub. L. 101-508) and part 158 of the Federal Aviation Regulations (14 CFR part 158).

On September 27, 2001, the FAA determined that the application to impose a PFC at Dayton International Airport and to use the revenue at Dayton International and Wright-Brothers Airports submitted by the City of Dayton was substantially complete within the requirements of section 158.25 of part 158. The FAA will approve or disapprove the application, in whole or in part, not later than December 26, 2001.

The following is a brief overview of the application.

PFC application number: 01-03-C-00-DAY.

Level of the proposed PFC: $4.50.

Proposed charge effective date: March 1, 2004.

Proposed charge expiration date: August 1, 2014.

Total estimated PFC revenue: $64,670,915.00.

Brief description of proposed projects:

Dayton International: Runway Pavement Rehabilitation, Environmental Impact Study, Deicing System Improvements, Backup Generator-Airfield, Aircraft Rescue and Fire Fighting (ARFF) Station Renovation and Expansion, Taxiways A and Z Rehabilitation, Taxiway H, K, E, C, L and V Rehabilitation, Cargo and Terminal Aircraft Apron Rehabilitation, Land Acquisition-Approach and Runway Protection, Airfield Snow Removal Equipment, ARFF Vehicle Replacement (Rescue 22), Backup Generator-Terminal, Terminal Gate Expansion, Terminal Drive and Related Roads Rehabilitation, Southwest Terminal Apron, Northeast Deicing Apron, Computerized Airfield Lighting Control System, Perimeter Road, Far Part 150 Noise Study—Phase 1, 2, and Final, Airport Police Offices Renovation. Dayton-Wright Brothers Airport: Land Acquisition and Approach Protection for Runway End 20, Runway 2/20 and Other Pavement Rehabilitation. Class or classes of air carriers which the public agency has requested to be required to collect PFCs: air taxi/commercial operators.

Any person may inspect the application in person at the FAA office listed above under FOR FURTHER INFORMATION CONTACT.

In addition, any person may, upon request, inspect the application, notice and other documents germane to the application in person at the Dayton International Airport, 5300 Riverside Drive, Dayton, Ohio 44135.

Issued in Des Plaines, Illinois on November 27, 2001.
Mark McClardy,
Acting Manager, Planning and Programming Branch, Airports Division, Great Lakes Region.

[FR Doc. 01-30134 Filed 12-4-01; 8:45 am]

BILLING CODE 4910-13-M